DEPARTMENT OF ENERGY

Federal Energy Regulatory Commission

[Project No. 15055-001]

Northern States Power Company; Notice of Reasonable Period of Time for Water Quality Certification Application

On August 11, 2025, the Wisconsin Department of Natural Resources (Wisconsin DNR) submitted to the Federal Energy Regulatory Commission (Commission) notice that it received a request for a Clean Water Act section 401(a)(1) water quality certification as defined in 40 CFR 121.5, from Northern States Power Company, in conjunction with the above captioned project on November 12, 2024. Pursuant to the Commission's regulations,¹ we hereby notify Wisconsin DNR of the following dates.

¹ 18 CFR 5.23(b)(2).

Date of Receipt of the Certification Request: November 12, 2024.

Reasonable Period of Time to Act on the Certification Request: One year, November 12, 2025.

If Wisconsin DNR fails or refuses to act on the water quality certification request on or before the above date, then the certifying authority is deemed waived pursuant to section 401(a)(1) of the Clean Water Act, 33 U.S.C. 1341(a)(1).

Dated: August 20, 2025.
Debbie-Anne A. Reese,
Secretary.

[FR Doc. 2025-16301 Filed 8-25-25; 8:45 am]

BILLING CODE 6717-01-P